DEPARTMENT OF COMMERCE

International Trade Administration

[A-570-863]

Notice of Extension of the Preliminary Results of Antidumping Duty New Shipper Review: Honey From the People's Republic of China

AGENCY: Import Administration, International Trade Administration, Commerce.

DATES: Effective Date: January 9, 2007.

FOR FURTHER INFORMATION CONTACT: Erin Begnal or Michael Quigley; AD/CVD Operations, Office 9, Import Administration, International Trade Administration, U.S. Department of Commerce, 14th Street and Constitution Avenue, NW., Washington, DC 20230; telephone: (202) 482-1442 and (202) 482-4047, respectively.

Background

The Department of Commerce (“Department”) received a timely request from Shanghai Bloom International Trading Co., Ltd. (“Shanghai Bloom”), in accordance with 19 CFR 351.214(c), for a new shipper review of the antidumping duty order on honey from the People's Republic of China (“PRC”). On August 30, 2006, the Department found that the request for review with respect to Shanghai Bloom met all of the regulatory requirements set forth in 19 CFR 351.214(b) and initiated an antidumping duty new shipper review covering the period December 1, 2005, through June 30, 2006. See Honey from the People's Republic of China: Initiation of New Shipper Antidumping Duty Review, 71 FR 52764 (September 7, 2006). The preliminary results are currently due no later than February 26, 2007.

Extension of Time Limits for Preliminary Results

Section 751(a)(2)(B)(iv) of the Tariff Act of 1930, as amended (“the Act”), and 19 CFR 351.214(i)(1) require the Department to issue the preliminary results of a new shipper review within 180 days after the date on which the new shipper review was initiated and final results of a review within 90 days after the date on which the preliminary results were issued. The Department may, however, extend the time period for completion of the preliminary results of a new shipper review to 300 days if it determines that the case is extraordinarily complicated. See 19 CFR 351.214(i)(2).

The Department has determined that the review is extraordinarily complicated as the Department must gather additional publicly available information, issue additional supplemental questionnaires, and conduct verification of the responses. Based on the timing of the case and the additional information that must be gathered and verified, the preliminary results of this new shipper review cannot be completed within the statutory time limit of 180 days. Accordingly, the Department is extending the time limit for the completion of the preliminary results of the new shipper review of Shanghai Bloom to 300 days. The preliminary results will now be due no later than June 26, 2007, in accordance with section 751(a)(2)(B)(iv) of the Act and 19 CFR 351.214(i)(2). The final results will, in turn, be due 90 days after the date of issuance of the preliminary results, unless extended.

This notice is published pursuant to sections 751(a)(2)(B)(iv) and 777(i)(1) of the Act.

Dated: December 28, 2006.
Stephen J. Claeys,
Deputy Assistant Secretary for Import Administration.

[FR Doc. E7-54 Filed 1-8-07; 8:45 am]

BILLING CODE 3510-DS-P